DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Elmore County, Alabama, and Incorporated Areas
Docket No.: FEMA-B-1114
Tallapoosa River | Approximately 3.0 miles downstream of Thurlow Dam | +210 | City of Tallassee.
| Approximately 1.7 miles downstream of Thurlow Dam | +214
* National Geodetic Vertical Datum.
+ North American Vertical Datum.
# Depth in feet above ground.
‸ Mean Sea Level, rounded to the nearest 0.1 meter.
ADDRESSES
City of Tallassee
Maps are available for inspection at 3 Freeman Avenue, Tallassee, AL 36078.
New London County, Connecticut (All Jurisdictions)
Docket Nos.: FEMA-B-1072 and FEMA-B-1139
Eightmile River | Approximately 100 feet upstream of Hamburg Road | +56 | Town of Lyme.
| Approximately 700 feet upstream of Hamburg Road | +57
Four Mile River | Approximately 200 feet downstream of the breached dam | +10 | Town of Old Lyme.
| Approximately 1,200 feet upstream of I-95 | +52
Four Mile River | Just upstream of the railroad | +10 | Town of Old Lyme.
| Approximately 1,200 feet downstream of the breached dam | +10
Little River | At the confluence with the Shetucket River | +64 | Town of Lisbon.
| Approximately 2,400 feet upstream of Inland Road | +83
Long Island Sound | Approximately 1,200 feet west of the intersection of Atlantic Avenue and Bridge Street | +12 | Groton Long Point Association.
Long Island Sound | Approximately 3,100 feet south of the intersection of Dimmock Road and Great Neck Road | +14 | Borough of Stonington, City of Groton, City of New London, Noank Fire District, Town of East Lyme, Town of Groton, Town of Old Lyme, Town of Stonington, Town of Waterford.
| Approximately 375 feet southwest of the intersection of Lindberg Road and Oak Street | +15
Shunock River | Just upstream of Pendleton Hill Road | +29 | Town of Stonington.
| Approximately 400 feet upstream of Pendleton Hill Road | +30
Susquetonscut Brook | At the confluence with the Yantic River | +119 | City of Norwich, Town of Bozrah
| Approximately 800 feet downstream of Lebanon Road | +119
* National Geodetic Vertical Datum.
+ North American Vertical Datum.
# Depth in feet above ground.
‸ Mean Sea Level, rounded to the nearest 0.1 meter.
ADDRESSES
Borough of Stonington
Maps are available for inspection at the Borough Hall, 26 Church Street, Stonington, CT 06378.
City of Groton
Maps are available for inspection at the City Municipal Building, 295 Meridian Street, Groton, CT 06340.
City of New London
Maps are available for inspection at City Hall, 181 State Street, New London, CT 06320.
City of Norwich
Maps are available for inspection at City Hall, 100 Broadway, Norwich, CT 06360.
Groton Long Point Association
Maps are available for inspection at the Town Hall, 44 Beach Road, Groton Long Point, CT 06340.
Noank Fire District
Maps are available for inspection at 45 Fort Hill Road, Groton, CT 06340.
Town of Bozrah
Maps are available for inspection at the Town Hall, 1 River Road, Bozrah, CT 06334.
Town of East Lyme
Maps are available for inspection at the East Lyme Town Hall, 108 Pennsylvania Avenue, Niantic, CT 06357.
Town of Groton
Maps are available for inspection at the Town Hall, 175 Shennecossett Parkway, Groton, CT 06340.
Town of Lisbon
Maps are available for inspection at the Town Hall, One Newent Road, Lisbon, CT 06351.
Town of Lyme
Maps are available for inspection at the Lyme Town Hall, 480 Hamburg Road, Old Lyme, CT 06371.
Town of Old Lyme
Maps are available for inspection at the Old Lyme Memorial Town Hall, 52 Lyme Street, Old Lyme, CT 06371.
Town of Stonington
Maps are available for inspection at the Town Hall, 152 Elm Street, Stonington, CT 06378.
Town of Waterford
Maps are available for inspection at the Town Hall, 15 Rope Ferry Road, Waterford, CT 06385.
St. Johns County, Florida, and Incorporated Areas
Docket No.: FEMA-B-1089
Kendall Creek | Approximately 300 feet upstream of Roberts Road | *25 | Unincorporated Areas of St. Johns County.
| Approximately 700 feet upstream of Roberts Road | *26
Orange Grove Branch | Approximately 4,600 feet upstream of Orange Branch Trail | *26 | Unincorporated Areas of St. Johns County.
| Approximately 5,700 feet upstream of Orange Branch Trail | *27
* National Geodetic Vertical Datum.
+ North American Vertical Datum.
# Depth in feet above ground.
‸ Mean Sea Level, rounded to the nearest 0.1 meter.
ADDRESSES
Unincorporated Areas of St. Johns County
Maps are available for inspection at 4020 Lewis Speedway, St. Augustine, FL 32084.
Coles County, Illinois, and Incorporated Areas
Docket No.: FEMA-B-1101
Cassell Creek | Approximately 1,650 feet upstream of the confluence with Town Branch Creek | +613 | City of Charleston.
| Approximately at the upstream side of the railroad (removed) | +619
Town Branch Creek | Approximately 0.19 mile downstream of the railroad | +616 | City of Charleston.
| Approximately 0.08 mile downstream of the railroad | +617
* National Geodetic Vertical Datum.
+ North American Vertical Datum.
# Depth in feet above ground.
‸ Mean Sea Level, rounded to the nearest 0.1 meter.
ADDRESSES
City of Charleston
Maps are available for inspection at City Hall, 520 Jackson Avenue, Charleston, IL 61920.
La Salle County, Illinois, and Incorporated Areas
Docket No.: FEMA-B-1104
Bailey Creek | Approximately 0.52 mile downstream of Pontiac Street | +638 | Unincorporated Areas of La Salle County, Village of Tonica.
| Approximately 100 feet downstream of I-39 | +651
Bailey Creek Unnamed Tributary | At the confluence with Bailey Creek | +646 | Village of Tonica.
| Approximately 225 feet upstream of IL-251 | +652
Clark Run | At the confluence with the Illinois River | +467 | Unincorporated Areas of La Salle County, Village of North Utica.
| Approximately 525 feet downstream of the Illinois and Michigan Canal | +467
Fox River | At the confluence with the Illinois River | +474 | City of Ottawa, Unincorporated Areas of La Salle County.
| Approximately 0.87 mile upstream of U.S. Route 6/Norris Drive | +474
Goose Creek | At the confluence with the Fox River | +474 | City of Ottawa, Unincorporated Areas of La Salle County.
| Approximately 100 feet upstream of Champlain Street | +474
Illinois River | Approximately 0.51 mile downstream of the confluence with Cedar Creek | +463 | City of La Salle, City of Marseilles, City of Oglesby, City of Ottawa, City of Peru, Unincorporated Areas of La Salle County, Village of Naplate, Village of North Utica, Village of Seneca.
| Approximately 1.1 miles upstream of IL-170 | +498
Mendota Creek | Approximately 0.4 mile downstream of 1st Street | +724 | City of Mendota, Unincorporated Areas of La Salle County.
| Approximately 0.55 mile upstream of Lakewood Plaza Drive | +767
Rat Run | At the confluence with the Illinois River | +495 | Unincorporated Areas of La Salle County, Village of Seneca.
| Approximately 125 feet downstream of IL-170 | +495
* National Geodetic Vertical Datum.
+ North American Vertical Datum.
# Depth in feet above ground.
‸ Mean Sea Level, rounded to the nearest 0.1 meter.
ADDRESSES
City of La Salle
Maps are available for inspection at City Hall, 745 2nd Street, La Salle, IL 61301.
City of Marseilles
Maps are available for inspection at City Hall, 209 Lincoln Street, Marseilles, IL 61341.
City of Mendota
Maps are available for inspection at City Hall, 800 Washington Street, Mendota, IL 61342.
City of Oglesby
Maps are available for inspection at City Hall, 110 East Walnut Street, Oglesby, IL 61348.
City of Ottawa
Maps are available for inspection at City Hall, 301 West Madison Street, Ottawa, IL 61350.
City of Peru
Maps are available for inspection at City Hall, 1727 4th Street, Peru, IL 61354.
Unincorporated Areas of La Salle County
Maps are available for inspection at the La Salle County Courthouse, Etna Road Complex, 707 East Etna Road, Ottawa, IL 61350.
Village of Naplate
Maps are available for inspection at the Village Hall, 2000 West Ottawa Avenue, Naplate, IL 61350.
Village of North Utica
Maps are available for inspection at the Village Hall, 801 South Clark Street, North Utica, IL 61373.
Village of Seneca
Maps are available for inspection at the Village Hall, 340 North Cash Street, Seneca, IL 61360.
Village of Tonica
Maps are available for inspection at the Village Hall, 308 Uncas Street, Tonica, IL 61370.
Lawrence County, Illinois, and Incorporated Areas
Docket No.: FEMA-B-1125
Brushy Creek | Approximately 100 feet downstream of North 1550th Street (County Route 5) | +437 | Unincorporated Areas of Lawrence County.
| At the downstream side of North 1550th Street (County Route 5) | +437
Wabash River | Approximately 3.5 miles downstream of Wabash Cannonball Railroad Bridge | +415 | City of St. Francisville.
| Approximately 0.5 mile downstream of Wabash Cannonball Railroad Bridge | +417
* National Geodetic Vertical Datum.
+ North American Vertical Datum.
# Depth in feet above ground.
‸ Mean Sea Level, rounded to the nearest 0.1 meter.
ADDRESSES
City of St. Francisville
Maps are available for inspection at City Hall, 207 South 6th Street, St. Francisville, IL 62460.
Unincorporated Areas of Lawrence County
Maps are available for inspection at the Lawrence County Courthouse, 1100 State Street, Lawrenceville, IL 62439.
Moultrie County, Illinois, and Incorporated Areas
Docket No.: FEMA-B-1101
Dalton City Drain | At the confluence with Marrowbone Creek | +672 | Unincorporated Areas of Moultrie County.
| At State Route 128 | +687
Lowe No. 2 | Approximately 1,100 feet downstream of Vine Street | +656 | Unincorporated Areas of Moultrie County.
| Approximately 540 feet upstream of Progress Street | +662
* National Geodetic Vertical Datum.
+ North American Vertical Datum.
# Depth in feet above ground.
‸ Mean Sea Level, rounded to the nearest 0.1 meter.
ADDRESSES
Unincorporated Areas of Moultrie County
Maps are available for inspection at the Moultrie County Courthouse, Planning and Zoning Department, 10 South Main Street, Suite 1, Sullivan, IL 61951.
Black Hawk County, Iowa, and Incorporated Areas
Docket No.: FEMA-B-1060
Big Woods Creek | Approximately 88 feet upstream of Lone Tree Road | +864 | City of Cedar Falls, Unincorporated Areas of Black Hawk County.
| Just downstream of Cedar-Wapsi Road | +920
Big Woods Creek Upper Diversion | Approximately 0.5 mile upstream of Mount Vernon Road | +870 | Unincorporated Areas of Black Hawk County.
| Approximately 0.6 mile upstream of Cedar-Wapsi Road | +875
Black Hawk Creek | Just upstream of West Shaulis Road | +870 | City of Hudson, City of Waterloo,
Unincorporated Areas of Black Hawk County.
| Approximately 975 feet downstream of Zaneta Road | +891
Cedar River | Just upstream of Lone Tree Road and I-218 | +864 | City of Cedar Falls.
| East of Big Woods Road and approximately 0.3 mile south of Dunkerton Road along Illinois Central Gulf Railroad | +864
Cedar River | Approximately 0.6 mile downstream of I-218 | +859 | City of Cedar Falls, City of Waterloo, Unincorporated Areas of Black Hawk County.
| Approximately 2.1 miles upstream of Center Street | +869
Cedar River Diversion Channel | Approximately 440 feet downstream of State Highway 57 | +860 | City of Cedar Falls.
| Approximately 1.3 miles upstream of Illinois Central Railroad | +865
City View Branch | Approximately 0.3 mile downstream of Independence Avenue | +847 | City of Waterloo.
| Just downstream of Chicago and North Western Railroad | +859
Crane Creek | Approximately 117 feet downstream of Wheeler Road | +936 | City of Dunkerton, Unincorporated Areas of Black Hawk County.
| Just downstream of East Cedar Wapsi Road | +967
Crossroads Creek | Approximately 91 feet downstream of Hess Road | +845 | City of Waterloo.
| Approximately 514 feet upstream of Alexander Drive | +871
Crossroads Creek Diversion | Approximately 91 feet downstream of Hess Road | +849 | City of Waterloo.
| Approximately 0.3 mile upstream of Sarah Drive | +867
Dry Run Creek Diversion | Approximately 25 feet upstream of 20th Street | +864 | City of Cedar Falls.
| Approximately 225 feet downstream of Seerley Boulevard | +866
Dry Run Creek at Cedar Falls | Approximately 293 feet downstream of Illinois Central Gulf Railroad | +852 | City of Cedar Falls.
| Approximately 540 feet downstream of U.S. Route 20 | +928
Dry Run Creek at Waterloo | Approximately 664 feet downstream of Commercial Street | #2 | City of Waterloo.
| Approximately 106 feet upstream of Byron Avenue | +861
| Approximately 0.5 mile upstream of Kimball Avenue | +942
Maywood Branch | Approximately 0.4 mile downstream of Bishop Avenue | +855 | City of Waterloo.
| Just upstream of Bishop Avenue | +857
Myers Lake | West end of lake | +838 | City of Evansdale.
| East end of lake | +838
Ponded Area No. 2, from Elk Run Creek, landside of levee | North end of ponding area, approximately 0.3 mile downstream of LaFayette Road | +836 | City of Evansdale.
| South end of ponding area, approximately 0.4 mile upstream of Gilbert Road | +836
Ponded Area No.1 from Elk Run Creek, landside of levee | North end of ponding area, approximately 150 feet downstream of Gilbert Drive | +836 | City of Evansdale.
| South end of ponding area, approximately 350 feet upstream of State Route 380 | +836
South West Branch of Dry Run Creek | Approximately 279 feet downstream of Main Street | +865 | City of Cedar Falls.
| Approximately 1.8 miles upstream of Future Greenhill Road | +921
Stream No. 13 | Approximately 1.0 mile downstream of Wagner Road | +856 | City of Waterloo.
| Approximately 364 feet upstream of Airline Highway | +863
Stream No. 36 | Approximately 1.0 mile downstream of Wagner Road | +863 | City of Waterloo, Unincorporated Areas of Black Hawk County.
| Approximately 0.4 mile downstream of Dunkerton Road | +870
Sunnyside Creek | Approximately 0.3 mile downstream of Martin Road | +855 | City of Waterloo.
| Approximately 130 feet upstream of 4th Street | +878
Sunnyside Creek Bypass | Approximately 0.6 mile downstream of Marine Avenue | +861 | City of Waterloo.
| Approximately 450 feet upstream of Marine Avenue | +869
Unnamed Tributary to Big Woods Creek | Just downstream of Dunkerton Road | +864 | City of Cedar Falls.
| Approximately 408 feet west of I-218 | +864
Unnamed Tributary to Big Woods Creek | Approximately 0.5 mile upstream of Mount Vernon Road | +871 | Unincorporated Areas of Black Hawk County.
| Just upstream of Dunkerton Road | +871
Unnamed Tributary to Cedar River | Approximately 182 feet downstream of Dunkerton Road | +864 | City of Cedar Falls.
| Just upstream of Lone Tree Road | +864
Wolf Creek | Approximately 0.6 mile downstream of Bike Path | +815 | City of La Porte City.
| Approximately 1.3 miles upstream of Main Street | +824
Wolf Creek Overflow | Approximately 0.4 mile downstream of 8th Street | +815 | City of La Porte City, Unincorporated Areas of Black Hawk County.
| Approximately 1.3 miles upstream of Poplar Street | +823
* National Geodetic Vertical Datum.
+ North American Vertical Datum.
# Depth in feet above ground.
‸ Mean Sea Level, rounded to the nearest 0.1 meter.
ADDRESSES
City of Cedar Falls
Maps are available for inspection at 220 Clay Street, Cedar Falls, IA 50613.
City of Dunkerton
Maps are available for inspection at 200 Tower Street, Dunkerton, IA 50626.
City of Evansdale
Maps are available for inspection at 123 North Evans Road, Evansdale, IA 50707
City of Hudson
Maps are available for inspection at 525 Jefferson Street, Hudson, IA 50643.
City of La Porte City
Maps are available for inspection at 202 Main Street, La Porte City, IA 50651.
City of Waterloo
Maps are available for inspection at 715 Mulberry Street, Waterloo, IA 50703.
Unincorporated Areas of Black Hawk County
Maps are available for inspection at 316 East 5th Street, Suite 203, Waterloo, IA 50703.
Clinton County, Iowa, and Incorporated Areas
Docket No.: FEMA-B-1100
Mississippi River | Approximately 11.2 miles downstream of U.S. Route 30 | +585 | City of Camanche, City of Clinton,
Unincorporated Areas of Clinton County.
| Approximately 12.8 miles upstream of State Highway 136 | +594
* National Geodetic Vertical Datum.
+ North American Vertical Datum.
# Depth in feet above ground.
‸ Mean Sea Level, rounded to the nearest 0.1 meter.
ADDRESSES
City of Camanche
Maps are available for inspection at 917 3rd Street, Camanche, IA 52730.
City of Clinton
Maps are available for inspection at 110 5th Avenue South, Clinton, IA 52732.
Unincorporated Areas of Clinton County
Maps are available for inspection at 329 East 11th Street, DeWitt, IA 52742.
Louisa County, Iowa, and Incorporated Areas
Docket No.: FEMA-B-1093
Mississippi River | Approximately 8.3 miles downstream of the confluence with the Iowa River | +544 | Unincorporated Areas of Louisa County.
| Approximately 1.4 miles upstream of the confluence with Michaels Creek | +552
* National Geodetic Vertical Datum.
+ North American Vertical Datum.
# Depth in feet above ground.
‸ Mean Sea Level, rounded to the nearest 0.1 meter.
ADDRESSES
Unincorporated Areas of Louisa County
Maps are available for inspection at the Louisa County Courthouse, 117 South Main Street, Wapello, IA 52653.
Muscatine County, Iowa, and Incorporated Areas
Docket No.: FEMA-B-1089
Mississippi River | Approximately 7.1 miles downstream of State Route 92 | +554 | City of Muscatine,
Unincorporated Areas of Muscatine County.
| Approximately 3.3 miles upstream of the confluence with Pine Creek | +560
Mud Creek | Approximately 1.2 miles upstream of Story Avenue | +658 | City of Wilton.
| Approximately 1.4 miles upstream of Story Avenue | +658
* National Geodetic Vertical Datum.
+ North American Vertical Datum.
# Depth in feet above ground.
‸ Mean Sea Level, rounded to the nearest 0.1 meter.
ADDRESSES
City of Muscatine
Maps are available for inspection at 215 Sycamore Street, Muscatine, IA 52761.
City of Wilton
Maps are available for inspection at 104 East 4th Street, Wilton, IA 52778.
Unincorporated Areas of Muscatine County
Maps are available for inspection at 3610 Park Avenue West, Muscatine, IA 52761.
Hart County, Kentucky, and Incorporated Areas
Docket No.: FEMA-B-1089
Bacon Creek (backwater effects from Nolin Lake) | From the confluence with Nolin Lake to approximately 0.7 mile upstream of Charles Jaggers Road | +560 | Unincorporated Areas of Hart County.
Bacon Creek Tributary 41 (backwater effects from Nolin Lake) | From the confluence with Bacon Creek to approximately 0.5 mile upstream of the confluence with Bacon Creek | +560 | Unincorporated Areas of Hart County.
Cane Run (backwater effects from Nolin Lake) | From the confluence with Nolin Lake to approximately 0.5 mile upstream of the confluence with Cane Run Tributary 11 | +560 | Unincorporated Areas of Hart County.
Cane Run Tributary 13 (backwater effects from Nolin Lake) | From the confluence with Nolin Lake to approximately 0.8 mile upstream of the confluence with Nolin Lake | +560 | Unincorporated Areas of Hart County.
Little Dog Creek (backwater effects from Nolin Lake) | From the confluence with Nolin Lake to approximately 1.3 miles upstream of the confluence with Nolin Lake | +560 | Unincorporated Areas of Hart County.
Nolin Lake | Entire shoreline | +560 | Unincorporated Areas of Hart County.
Nolin River (backwater effects from Nolin Lake) | From the confluence with Nolin Lake to approximately 3.1 miles downstream of Wheelers Mill Road | +560 | Unincorporated Areas of Hart County.
Nolin River Tributary 2 (backwater effects from Nolin Lake) | From the confluence with Nolin Lake to approximately 1,692 feet upstream of the confluence with Nolin Lake | +560 | Unincorporated Areas of Hart County.
Nolin River Tributary 24 (backwater effects from Nolin Lake) | From the confluence with Nolin Lake to approximately 268 feet upstream of Robbin Lane | +560 | Unincorporated Areas of Hart County.
* National Geodetic Vertical Datum.
+ North American Vertical Datum.
# Depth in feet above ground.
‸ Mean Sea Level, rounded to the nearest 0.1 meter.
ADDRESSES
Unincorporated Areas of Hart County
Maps are available for inspection at the Hart County Courthouse, 200 Main Street, Munfordville, KY 42765.
Meade County, Kentucky, and Incorporated Areas
Docket No.: FEMA-B-1089
Ohio River | Approximately 2.8 miles upstream of the confluence with Watson Run (River Mile 683.25) | +421 | City of Brandenburg, Unincorporated Areas of Meade County.
| Approximately 0.7 mile downstream of Lock and Dam No. 43 (River Mile 634.0) | +442
* National Geodetic Vertical Datum.
+ North American Vertical Datum.
# Depth in feet above ground.
‸ Mean Sea Level, rounded to the nearest 0.1 meter.
ADDRESSES
City of Brandenburg
Maps are available for inspection at 737 High Street, Brandenburg, KY 40108.
Unincorporated Areas of Meade County
Maps are available for inspection at the Office of the Executive County Judge, 516 Fairway Drive, Brandenburg, KY 40108.
Marion County, Mississippi, and Incorporated Areas
Docket No.: FEMA-B-1117
Pearl River | Approximately 5.5 miles downstream of State Highway 98 | +134 | City of Columbia, Unincorporated Areas of Marion County.
| Approximately 5 miles upstream of State Highway 35 | +154
* National Geodetic Vertical Datum.
+ North American Vertical Datum.
# Depth in feet above ground.
‸ Mean Sea Level, rounded to the nearest 0.1 meter.
ADDRESSES
City of Columbia
Maps are available for inspection at 201 2nd Street, Columbia, MS 39429.
Unincorporated Areas of Marion County
Maps are available for inspection at 250 Broad Street, Columbia, MS 39429.
Prentiss County, Mississippi, and Incorporated Areas
Docket No.: FEMA-B-1083
Tennessee-Tombigbee Waterway (Bay Springs Lake) | Entire shoreline within community | +420 | Unincorporated Areas of Prentiss County.
* National Geodetic Vertical Datum.
+ North American Vertical Datum.
# Depth in feet above ground.
‸ Mean Sea Level, rounded to the nearest 0.1 meter.
ADDRESSES
Unincorporated Areas of Prentiss County
Maps are available for inspection at the Prentiss County Courthouse, 2301 North 2nd Street, Booneville, MS 38829.
Gasconade County, Missouri, and Incorporated Areas
Docket No.: FEMA-B-1115
Brushy Fork (backwater effects from Missouri River) | From the confluence with First Creek to approximately 0.64 mile upstream of the confluence with Howard Creek | +526 | Unincorporated Areas of Gasconade County.
Cole Creek (backwater effects from Missouri River) | From the confluence with the Missouri River to approximately 1.4 miles upstream of the confluence with the Missouri River | +522 | Unincorporated Areas of Gasconade County.
First Creek (backwater effects from Missouri River) | From the confluence with the Gasconade River to approximately 1,320 feet upstream of the confluence with First Creek Tributary 6 | +526 | Unincorporated Areas of Gasconade County.
First Creek Tributary 6 (backwater effects from Missouri River) | From the confluence with First Creek to approximately 1,478 feet upstream the confluence with First Creek | +526 | Unincorporated Areas of Gasconade County.
Frene Creek (backwater effects from Missouri River) | From the confluence with the Missouri River to approximately 68 feet downstream of 14th Street | +519 | City of Hermann, Unincorporated Areas of Gasconade County.
Frene Creek Tributary 8 (backwater effects from Missouri River) | From the confluence with Frene Creek to approximately 314 feet upstream of Schiefers Branch Road | +519 | City of Hermann, Unincorporated Areas of Gasconade County.
Gasconade River (backwater effects from Missouri River) | From the confluence with the Missouri River to approximately 0.58 mile downstream of the confluence with Gasconade River Tributary 26 | +526 | Unincorporated Areas of Gasconade County.
Howard Creek (backwater effects from Missouri River) | From the confluence with Brushy Fork to approximately 0.74 mile upstream of the confluence with Brushy Fork | +526 | Unincorporated Areas of Gasconade County.
Little Berger Creek (backwater effects from Missouri River) | From the confluence with the Missouri River to Missouri Route 100 | +515 | Unincorporated Areas of Gasconade County.
Missouri River | Approximately 0.7 mile upstream of the confluence with Little Berger Creek in Franklin County | +516 | Unincorporated Areas of Gasconade County.
| Approximately 690 feet downstream of the confluence with Shawnee Creek | +528
Richland Creek (backwater effects from Missouri River) | From the confluence with the Gasconade River to approximately 1,816 feet downstream of the confluence with Richland Creek Tributary 2 | +526 | Unincorporated Areas of Gasconade County.
Sugar Creek (backwater effects from Missouri River) | From approximately 0.68 mile downstream of Missouri Route J to the confluence with the Gasconade River | +526 | Unincorporated Areas of Gasconade County.
* National Geodetic Vertical Datum.
+ North American Vertical Datum.
# Depth in feet above ground.
‸ Mean Sea Level, rounded to the nearest 0.1 meter.
ADDRESSES
City of Hermann
Maps are available for inspection at 1902 Jefferson Street, Hermann, MO 65041.
Unincorporated Areas of Gasconade County
Maps are available for inspection at 119 East 1st Street, Hermann, MO 65041.
McHenry County, North Dakota, and Incorporated Areas
Docket No.: FEMA-B-1126
Mouse River | Approximately 1.25 miles upstream of U.S. Route 2 | +1462 | Unincorporated Areas of McHenry County.
| Approximately 3.26 miles upstream of U.S. Route 2 | +1462
* National Geodetic Vertical Datum.
+ North American Vertical Datum.
# Depth in feet above ground.
‸ Mean Sea Level, rounded to the nearest 0.1 meter.
ADDRESSES
Unincorporated Areas of McHenry County
Maps are available for inspection at 407 Main Street South, Towner, ND 58788.
Darke County, Ohio, and Incorporated Areas
Docket No.: FEMA-B-1114
Indian Creek | Approximately 300 feet upstream of the confluence with Swamp Creek | +968 | Village of Versailles.
| Approximately 1,000 feet upstream of the confluence with Swamp Creek | +968
Painter Creek | Approximately 50 feet upstream of State Highway 49 | +1030 | Unincorporated Areas of Darke County.
| Just downstream of Hollansburg-Sampson Road | +1049
* National Geodetic Vertical Datum.
+ North American Vertical Datum.
# Depth in feet above ground.
‸ Mean Sea Level, rounded to the nearest 0.1 meter.
ADDRESSES
Unincorporated Areas of Darke County
Maps are available for inspection at 520 South Broadway Street, Greenville, OH 45331.
Village of Versailles
Maps are available for inspection at 177 North Center Street, Versailles, OH 45380.
Seminole County, Oklahoma, and Incorporated Areas
Docket No.: FEMA-B-1064
Tributary 3 of Magnolia Creek | Approximately 1.3 miles upstream of the confluence with Tributary 1 of Tributary 3 of Magnolia Creek | +953 | Unincorporated Areas of Seminole County.
| Approximately 1.7 miles upstream of the confluence with Tributary 1 of Tributary 3 of Magnolia Creek | +967
* National Geodetic Vertical Datum.
+ North American Vertical Datum.
# Depth in feet above ground.
‸ Mean Sea Level, rounded to the nearest 0.1 meter.
ADDRESSES
Unincorporated Areas of Seminole County
Maps are available for inspection at 110 South Wewoka Avenue, Wewoka, OK 74884.
Potter County, Pennsylvania (All Jurisdictions)
Docket No.: FEMA-B-1110
Freeman Run | Approximately 0.7 mile downstream of State Route 607 (Main Street) | +1311 | Township of Portage.
| Approximately 0.6 mile downstream of State Route 607 (Main Street) | +1316
Oswayo Creek | Approximately 1.8 miles upstream of State Route 44 | +1567 | Township of Clara.
| Approximately 2.2 miles upstream of State Route 44 | +1572
* National Geodetic Vertical Datum.
+ North American Vertical Datum.
# Depth in feet above ground.
‸ Mean Sea Level, rounded to the nearest 0.1 meter.
ADDRESSES
Township of Clara
Maps are available for inspection at the Clara Township Building, 566 Clara Road, Shinglehouse, PA 16748.
Township of Portage
Maps are available for inspection at the Portage Township Hall, 23 State Street, Austin, PA 16720.
Robertson County, Texas, and Incorporated Areas
Docket No.: FEMA-B-1091
Little Brazos River | At the confluence with Lost Creek | +268 | Unincorporated Areas of Robertson County.
| Just downstream of Gifford Hill Road | +276
Lost Creek | At the confluence with the Little Brazos River | +268 | Unincorporated Areas of Robertson County.
| Just downstream of Union Pacific Railroad | +272
| Approximately 1,900 feet downstream of Black Jack Road | +305
| Approximately 800 feet upstream of Old Henry Prairie Road | +338
Sandy Creek | At the confluence with the Little Brazos River | +274 | Unincorporated Areas of Robertson County.
| Just downstream of Vaughn Lane | +287
| Just upstream of Union Pacific Railroad | +302
| Approximately 1,970 feet upstream of the confluence with Sandy Creek Tributary 3 | +320
Sandy Creek Tributary 2 | At the confluence with Sandy Creek | +312 | Unincorporated Areas of Robertson County.
| Approximately 1,400 feet upstream of the confluence with Sandy Creek | +314
* National Geodetic Vertical Datum.
+ North American Vertical Datum.
# Depth in feet above ground.
‸ Mean Sea Level, rounded to the nearest 0.1 meter.
ADDRESSES
Unincorporated Areas of Robertson County
Maps are available for inspection at 102 East Decherd Street, Franklin, TX 77856.
Chittenden County, Vermont (All Jurisdictions)
Docket Nos.: FEMA-B-1072 and FEMA-B-1139
Browns River | Approximately 1,500 feet upstream of Brown River Road (Route 128) | +354 | Town of Essex, Town of Jericho, Town of Underhill, Town of Westford.
| Approximately 100 feet upstream of Stevensville Road | +819
Winooski River | Approximately 450 feet upstream of Essex Road (Park Street) | +286 | Town of Bolton, Town of Essex, Town of Jericho, Town of Williston, Village of Essex Junction.
| Approximately 1,500 feet upstream of Central Vermont Railroad | +356
Winooski River | Approximately 0.7 mile upstream of the confluence with Lake Champlain | +102 | City of Burlington, City of South Burlington, City of Winooski, Town of Colchester.
| Approximately 1,200 feet downstream of Main Street/Colchester Avenue | +116
Winooski River | Approximately 1,200 feet downstream of I-89 | +165 | City of South Burlington, Town of Colchester.
| Approximately 1,100 feet upstream of I-89 | +167
* National Geodetic Vertical Datum.
+ North American Vertical Datum.
# Depth in feet above ground.
‸ Mean Sea Level, rounded to the nearest 0.1 meter.
ADDRESSES
City of Burlington
Maps are available for inspection at City Hall, 149 Church Street, Burlington, VT 05401.
City of South Burlington
Maps are available for inspection at City Hall, 575 Dorset Street, South Burlington, VT 05403.
City of Winooski
Maps are available for inspection at 27 West Allen Street, Winooski, VT 05404.
Town of Bolton
Maps are available for inspection at the Town Hall, 3045 Theodore Roosevelt Highway, Bolton, VT 05676.
Town of Colchester
Maps are available for inspection at 781 Blakely Road, Colchester, VT 05446.
Town of Essex
Maps are available for inspection at the Essex Town Hall, 81 Main Street, Essex Junction, VT 05452.
Town of Jericho
Maps are available for inspection at the Town Hall, 67 Vermont Route 15, Jericho, VT 05465.
Town of Underhill
Maps are available for inspection at the Underhill Town Hall, 12 Pleasant Valley Road, Underhill Center, VT 05490.
Town of Westford
Maps are available for inspection at the Town Office, 1713 Vermont Route 128, Westford, VT 05494.
Town of Williston
Maps are available for inspection at the Town Hall, 7900 Williston Road, Williston, VT 05495.
Village of Essex Junction
Maps are available for inspection at Lincoln Hall, 2 Lincoln Street, Essex Junction, VT 05452.

(Catalog of Federal Domestic Assistance No. 97.022, “Flood Insurance.”)

Dated: May 17, 2011.
Sandra K. Knight,
Deputy Federal Insurance and Mitigation Administrator, Mitigation, Department of Homeland Security, Federal Emergency Management Agency.

[FR Doc. 2011-15507 Filed 6-21-11; 8:45 am]

BILLING CODE 9110-12-P